DEPARTMENT OF TRANSPORTATION

Federal Aviation Administration

Notice of Intent To Rule on Application To Impose and Use the Revenue From a Passenger Facility Charge (PFC) at Key West International Airport, Key West, FL

AGENCY: Federal Aviation Administration (FAA), DOT.

ACTION: Notice of intent to rule on application.

SUMMARY: The FAA proposes to rule and invites public comment on the application to impose and use the revenue from a PFC at Key West International Airport under the provisions of the Aviation Safety and Capacity Expansion Act of 1990 (Title IX of the Omnibus Budget Reconciliation Act of 1990) (Pub. L. 101-508) and Part 158 of the Federal Aviation Regulations (14 CFR Part 158).

DATES: Comments must be received on or before March 4, 2005.

ADDRESSES: Comments on this application may be mailed or delivered in triplicate to the FAA at the following address: Orlando Airports District Office, 5950 Hazeltine National Drive, Suite 400, Orlando, Florida 32822.

In addition, one copy of any comments submitted to the FAA must be mailed or delivered to Peter Horton, Director of Airports of the Monroe County Board of County Commissioners at the following address: Key West International Airport, 3491 S. Roosevelt Boulevard, Key West, Florida, 33040.

Air carriers and foreign air carriers may submit copies of written comments previously provided to the Monroe County Board of County Commissioners under § 158.23 of Part 158.

FOR FURTHER INFORMATION CONTACT: Susan Moore, Program Manager, Orlando Airports District Office, 5950 Hazeltine National Drive, Suite 400, Orlando FL, 32822, (407) 812-6331, extension 120. The application may be reviewed in person at this same location.

SUPPLEMENTARY INFORMATION: The FAA proposes to rule and invites public comment on the application to impose and use the revenue from a PFC at Key West International Airport under the provisions of the Aviation Safety and Capacity Expansion Act of 1990 (Title IX of the Omnibus Budget Reconciliation Act of 1990) (Pub. L. 101-508) and Part 158 of the Federal Aviation Regulations (14 CFR Part 158).

On January 25, 2005, The FAA determined that the application to impose and use the revenues from a PFC submitted by Monroe County Board of County Commissioners was substantially complete within the requirements of section 158.25 of Part 158. The FAA will approve or disapprove the application, in whole or in part, no later than April 11, 2005.

The following is a brief overview of the application.

PFC Application No.: 05-09-C-00-EYW.

Level of the proposed PFC: $4.50.

Proposed charge effective dates: July 1, 2005.

Proposed charge expiration date: November 1, 2005.

Total estimated net PFC revenue: $361,645.

Brief description of proposed project(s): PFC Application; Construct New Terminal (Phase 3); Construct Safety Area, Runway 9/27 (Phase 3); Noise Improvement Program, Renovate 50 homes (Design & Construction); Install Perimeter Fencing (Phase 2); Approach Clearing, Runway 9/27; Construct Taxiway A Extension (Phase 2) & T-Hanger Taxiways (at Florida Keys Marathon Airport, MTH); Rehabilitate Terminal Canopy, Phase 2 (MTH); Relocate Wind Sock & Segmented Circle (MTH): Acquire Back-up Generator for Airport Beacon (MTH).

Class or classes of air carriers which the public agency has requested not be required to collect PFCs: Commercial Air Carriers with less than one percent (1%) of total passenger enplanements.

Any person may inspect the application in person at the FAA office listed above under FOR FURTHER INFORMATION CONTACT.

In addition, any person may, upon request, inspect the application, notice and other documents germane to the application in person at the Monroe County Board of County Commissioners.

Issued in Orlando, Florida, on January 26, 2005.
Bart Vernace,
Acting Manager, Orlando Airports District Office, Southern Region.

[FR Doc. 05-1922 Filed 2-1-05; 8:45 am]

BILLING CODE 4910-13-M